ENVIRONMENTAL PROTECTION AGENCY

40 CFR Part 82

[EPA-HQ-OAR-2015-0663; FRL-9946-50-OAR]

RIN 2060-AS80

Protection of Stratospheric Ozone: Proposed New Listings of Substitutes; Changes of Listing Status; and Reinterpretation of Unacceptability for Closed Cell Foam Products Under the Significant New Alternatives Policy Program; and Revision of Clean Air Act Section 608 Venting Prohibition for Propane

AGENCY: Environmental Protection Agency (EPA).

ACTION: Notice of proposed rulemaking; extension of public comment period.

SUMMARY: The Environmental Protection Agency (EPA) is announcing that the period for providing public comments on the April 18, 2016, proposed “Protection of Stratospheric Ozone: Proposed New Listings of Substitutes; Changes of Listing Status; and Reinterpretation of Unacceptability for Closed Cell Foam Products under the Significant New Alternatives Policy Program; and Revision of Clean Air Act Section 608 Venting Prohibition for Propane” is being extended by 14 days.

DATES: Comments. The public comment period for the proposed rule, which published April 18, 2016, (81 FR 22810) is being extended by 14 days and will close on June 16, 2016. This extension provides the public additional time to submit comments and supporting information.

ADDRESSES: Comments. Submit your comments, identified by Docket ID No. EPA-HQ-OAR-2015-0663, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

FOR FURTHER INFORMATION CONTACT: Chenise Farquharson, Stratospheric Protection Division, Office of Atmospheric Programs (Mail Code 6205 T), Environmental Protection Agency, 1200 Pennsylvania Ave. NW., Washington, DC 20460; telephone number: 202-564-7768; email address: Farquharson.chenise@epa.gov. Notices and rulemakings under EPA's Significant New Alternatives Policy program are available on EPA's Stratospheric Ozone Web site at https://www.epa.gov/snap/snap-regulations.

SUPPLEMENTARY INFORMATION:

Comment Period

The EPA is extending the public comment period for the proposed rule (81 FR 22810; April 18, 2016) an additional 14 days. The public comment period will end on June 16, 2016, rather than June 2, 2016. This will provide the public additional time to review and comment on all of the information available, including the proposed rule and other materials in the docket.

List of Subjects in 40 CFR Part 82

Environmental protection, Administrative practice and procedure, Air pollution control, Incorporation by reference, Recycling, Reporting and recordkeeping requirements, Stratospheric ozone layer.

Dated: May 11, 2016.
Sarah Dunham,
Director, Office of Atmospheric Programs.

[FR Doc. 2016-11627 Filed 5-17-16; 8:45 am]

BILLING CODE 6560-50-P